DEPARTMENT OF ENERGY

Federal Energy Regulatory Commission

[Docket No. CP03-354-001]

Transcontinental Gas Pipe Line Corporation; Notice of Compliance Filing

February 4, 2004.

Take notice that on January 27, 2004, Transcontinental Gas Pipe Line Corporation (Transco) tendered for filing as part of its FERC Gas Tariff, Original Volume No. 2, Twenty-Second Revised Sheet No. 1 and First Revised Sheet No. 1018 with an effective date of December 23, 2003. Transco states that the filing is being made in compliance with the Commission's Order issued December 23, 2003 in the referenced docket.

Transco states that the above sheets reflect the termination of Transco's Rate Schedule X-118 from Transco's Original Volume No. 2 FERC Gas Tariff, and their associated deletion from the Table of Contents in Transco's Volume No. 2.

Transco states that copies of the filing are being mailed to its affected customers and interested state commissions.

Any person desiring to protest said filing should file a protest with the Federal Energy Regulatory Commission, 888 First Street, NE., Washington, DC 20426, in accordance with § 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-254 Filed 2-11-04; 8:45 am]

BILLING CODE 6717-01-P